DEPARTMENT OF THE INTERIOR

Bureau of Land Management

[AA210-00-1610-01-2410]

Public Land and Resources; Planning, Programming, and Budgeting

AGENCY: Bureau of Land Management, Interior.

ACTION: Notification of availability of Draft Land Use Planning Manual and Handbook.

SUMMARY: The Federal Land Policy and Management Act (FLPMA) and the regulations at 43 CFR part 1600 require the Bureau of Land Management (BLM) to prepare Resource Management Plans (RMPs) to provide management direction for the public lands. The objective of land use planning is to ensure that BLM lands are managed under the principles of multiple use and sustained yield (FLPMA, sec. 102 (a) (7)); in a manner that will protect the quality of scientific, scenic, historical, ecological, environmental, air and atmospheric, water resource, and archaeological values; that, where appropriate, will preserve and protect certain public lands in their natural condition; that will provide food and habitat for fish and wildlife and domestic animals; and that will provide for outdoor recreation and human occupancy and use (FLPMA, sec. 102 (a) (8)); and in a manner that recognizes the Nation's need for domestic sources of minerals, food, timber, and fiber from the public lands (FLPMA, sec. 102 (a) (12)).

The BLM's current guidance for the preparation of land use plans is a manual that was prepared in the 1980s, shortly after the BLM published its planning regulations in 1983. The BLM is developing new guidance and is providing the public an opportunity to review the proposed guidance and to provide input. The Planning Manual and Handbook, when finalized, will provide direction in implementing the requirements of FLPMA and the BLM planning regulations.

SUPPLEMENTARY INFORMATION: In addition to serving as BLM's primary tool for determining resource protection and allocations in the management of the public lands, RMPs provide the public a voice in BLM's land and resource management programs. They establish goals and objectives for resource management (i.e., desired future outcomes, based on standards and guidelines and, new regulatory requirements), measures needed to achieve them, and parameters for use. They identify lands which are open or available for certain uses, including any applicable restrictions, and lands which are closed. Land use plans provide direction for the management of BLM administered lands in accordance with the legal mandates of FLPMA, BLM regulations, and the mission and goals of BLM's Strategic Plan under the principles of multiple use and sustained yield, and in a manner that will protect the quality of scientific, scenic, historical, ecological, environmental, air and atmospheric, water resource and archaeological values.

There are more complex demands being made of the public lands today than when the BLM planning regulations and original guidance were issued in the 1980s. There are also new circumstances, such as increasing population growth near public lands in the West, and new data, such as new information on the condition and trend of vegetation, soil, and water resources that must be considered in BLM's land use plans.

The proposed planning guidance differs from existing guidance in that it:

1. Encourages planning on a variety of scales, including both traditional RMPs at the local level and larger regional-level plans, and combinations of these across different land ownerships and jurisdictions;

2. Encourages greater public participation throughout the planning process and facilitates multi-jurisdictional planning;

3. Clarifies the relationship between land use plans and implementation plans;

4. Provides the minimum procedural requirements for completing land use plans and implementation plans;

5. Clarifies the relationships between land use plan and NEPA requirements;

6. Addresses new requirements and approaches for managing public lands or resources; and

7. Addresses the consideration of new information and circumstances, such as new listings of threatened and endangered species, and new requirements and standards for the protection of air and water quality.

In recent years, the BLM has sought to engage and also participate with other landowners and jurisdictions in developing land use plans which address management of natural resource values and uses on a watershed or ecosystem basis, rather than on a strictly jurisdictional basis. The new planning guidance emphasizes the need to plan in conjunction with local communities and stakeholders, and in partnership with other planning jurisdictions. As the existing guidance did not address the BLM's role in these types of multi-jurisdictional plans, there is a need for the policy guidance provided in the planning manual and handbook.

The new guidance is also less process oriented, meaning there is more flexibility in the planning process. Specifically, the new planning guidance highlights the minimum requirements for planning, rather than being prescriptive. It builds on field experience gained in implementing the 1983 planning regulations (43 CFR 1600) and subsequent manual guidance.

This is internal guidance and no comment period is required. However, in the interest of improving BLM's planning process, public comments will be considered in development of the final version of the planning guidance. A public record and summary of how comments were addressed will be available at the BLM Washington Office for review upon request. The final planning manual will not be protestable or appealable.

DATES: Comments on the draft land use planning manual and handbook will be accepted until July 10, 2000.

ADDRESSES: Copies of the draft land use planning manual and handbook may be obtained from the Internet at www.blm.gov; from the BLM Washington Office at the following address: BLM, Planning, Assessment and Community Support Group (WO-210), 1849 C Street, NW., (LS-1050), Washington, D.C. 20240-0001; or from any BLM State Office or field office.

Comments can be electronically sent to www.wo210@blm.gov or mailed to the Bureau of Land Management (WO-210), Attention: Ted Milesnick, 1849 C Street NW., (LS-1050), Washington, DC, 20240-0001.

FOR FURTHER INFORMATION CONTACT: Ted Milesnick at (202) 452-7727, Ann Aldrich at (202) 452-7722, or Paul Politzer at (202) 452-0349.

Dated: May 23, 2000.
Michael Mottice,
Acting Assistant Director, Renewable Resources and Planning.

[FR Doc. 00-13310 Filed 5-26-00; 8:45 am]

BILLING CODE 4310-84-P